ELECTION ASSISTANCE COMMISSION

Sunshine Act Meetings

AGENCY: U.S. Election Assistance Commission (EAC).

ACTION: Sunshine Act notice; notice of public roundtable agenda.

SUMMARY: U.S. Election Assistance Commission Roundtable Discussion: Disability and the Digital Divide in The Voting Process.

DATES: Tuesday, July 26, 2022, 11:00 a.m. Eastern.

ADDRESSES: Virtual via Zoom.

The roundtable discussion is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual roundtable discussion on a new study analyzing the digital divide between citizens with and without disabilities during the 2020 through 2022 election period.

Agenda: The U.S. Election Assistance Commission (EAC) will hold a roundtable discussion on a new study released by the EAC and the Program for Disability Research at Rutgers University. The report highlights new data on computer and internet use, sources of information on the voting process used in 2020, accessibility of information sources, preferred ways of getting an answer to a question about the voting process, trust in information sources, sources of information on candidates and issues, expectations about voting and information sources in 2022, and knowledge of rights for accessible information.

The event will include presentations of the findings from professors Lisa Schur and Douglas Kruse from Rutgers University.

The full agenda will be posted in advance on the EAC website: https://www.eac.gov.

Background: In February 2021, the EAC released the “Disability and Voting Accessibility in the 2020 Elections,” a comprehensive national report identifying advancements and gaps in accessibility for voters with disabilities. The study focused on polling place access, mail and absentee voting accessibility, election administration challenges, COVID-19 obstacles, and community involvement. In July 2021, the EAC released “The Fact Sheet: Disability and Voter Turnout in the 2020 Elections,” a supplemental report with Rutgers University that used data from the federal government's Current Population Survey Voting and Registration Supplement for November 2020 to calculate disability turnout and identify trends.

Status: This roundtable discussion will be open to the public.

Amanda Joiner,
Acting General Counsel, U.S. Election Assistance Commission.

[FR Doc. 2022-14836 Filed 7-7-22; 4:15 pm]

BILLING CODE P